INTERNATIONAL TRADE COMMISSION

Section 337 Investigations; Notice of Commission Determination To Extend Postponement of all In-Person Section 337 Hearings Until June 10, 2020

AGENCY: U.S. International Trade Commission.

ACTION: Notice.

SUMMARY: Notice is hereby given that the U.S. International Trade Commission has determined to extend postponement of all in-person hearings under section 337 of the Tariff Act of 1930, as amended, until June 10, 2020.

FOR FURTHER INFORMATION CONTACT: Lisa R. Barton, Secretary to the Commission, U.S. International Trade Commission, 500 E Street SW, Washington, DC 20436, telephone (202) 205-2000. General information concerning the Commission may also be obtained by accessing its internet server at United States International Trade Commission (USITC) at https://www.usitc.gov/. The public record for section 337 investigations may be viewed on the Commission's Electronic Document Information System (EDIS) at https://edis.usitc.gov. Hearing-impaired persons are advised that information on this matter can be obtained by contacting the Commission's TDD terminal on (202) 205-1810.

SUPPLEMENTARY INFORMATION: In light of the ongoing Coronavirus (COVID-19) outbreak, the Commission has determined to extend postponement of all section 337 in-person hearings until June 10, 2020. Commission Administrative Law Judges (“ALJ”) are directed to notify all affected parties and to schedule new dates for the hearings as appropriate. ALJs may otherwise conduct their investigations in accordance with their established procedures.

The authority for the Commission's determination is contained in section 337 of the Tariff Act of 1930, as amended (19 U.S.C. 1337), and in Part 210 of the Commission's Rules of Practice and Procedure (19 CFR part 210).

By order of the Commission.
Issued: April 15, 2020.
Lisa Barton,
Secretary to the Commission.

[FR Doc. 2020-08388 Filed 4-20-20; 8:45 am]

BILLING CODE 7020-02-P